DEPARTMENT OF AGRICULTURE

Forest Service

Rosemont Copper Project, Coronado National Forest, Pima County, Arizona

AGENCY: Forest Service, USDA.

ACTION: Notice of intent to prepare an Environmental Impact Statement.

SUMMARY: In accordance with the President's Council on Environmental Quality Regulations Implementing the Procedural Provisions of the National Environmental Policy Act of 1969, the U.S. Department of Agriculture, Forest Service, announces its intent to prepare an environmental impact statement to document and publicly disclose the environmental effects of proposed construction and operation of an open-pit mine on National Forest System land and the effects of any necessary amendments to the Coronado National Forest Land and Resource Management Plan. The proposed mining project would be located on 995 acres of private land and 3,670 acres of National Forest System land about 30 miles southeast of Tucson, Arizona, within Townships 18 and 19, Ranges 15 and 16, Gila and Salt River Meridian, Pima County, Arizona. Land under the jurisdiction of the U.S. Department of the Interior, Bureau of Land Management, and the State of Arizona may be affected by certain activities associated with the proposed project. Production of 234 million pounds of copper, 4.5 million pounds of molybdenum, and 2.7 million ounces of silver is estimated annually over a period of approximately 20 years.

DATES: To be given full consideration during this National Environmental Policy Act (NEPA) review, written and oral comments concerning the scope of the environmental impact statement (EIS) analysis must be received by the Coronado National Forest (Forest) within 30 days following the publication of this notice in the Federal Register. Written and oral comments may also be submitted during open houses that will be held by the Forest Service as follows:

1. March 18, 2008, 7 p.m. to 9 p.m., Pima Community College, Desert Vista Campus, 5901 South Calle Santa Cruz, Tucson, Arizona;

2. March 19, 2008, 6:30 p.m. to 8:30 p.m., Canoa Hills Recreation Center, 3660 South Camino del Sol, Green Valley, Arizona; and

3. March 20, 2008, 6 p.m. to 8 p.m., Patagonia Union High School, Highway 82, Patagonia, Arizona.

A Draft EIS (DEIS) for the Rosemont Copper Project (Project) is expected to be filed with the Environmental Protection Agency (EPA) in March 2009, at which time EPA will publish a Notice of Availability (NOA) of the Draft EIS in the Federal Register. The NOA will begin a period of public review of the DEIS that will extend 45 days from the date of publication of the NOA in the Federal Register. The Final EIS (FEIS) and a Record of Decision (ROD) are scheduled to be completed in November 2009.

ADDRESSES: Written comments on this notice may be mailed or hand-delivered to ATTN: Ms. Beverley Everson, Geologist, Coronado National Forest, 300 W. Congress St., Tucson, Arizona 85701. Comments may be also be submitted by facsimile to (520) 388-8305 and by electronic mail (e-mail) to comments-southwestern-coronado@fs.fed.us. Postal envelopes and the subject line of email and facsimiles should include the words “Rosemont Copper Project EIS.” Addresses for open house meetings are given above.

FOR FURTHER INFORMATION CONTACT: For further information on the Rosemont Copper Project (Project), please contact Ms. Beverley Everson in writing at the address above or by telephone at (520) 388-8428. Questions on the Forest Service NEPA process may be directed to Ms. Andrea Wargo Campbell, Forest NEPA Coordinator, at the same address and telephone (520) 388-8352.

SUPPLEMENTARY INFORMATION:

Background

The Project area is located on the Nogales Ranger District, Coronado National Forest, in the northern Santa Rita Mountains in Pima County, Arizona, where production of copper began in the 1880s and continued until 1951. Although several exploration projects have been undertaken since then, there has been no recent production of copper ore. In the past few years, a significant increase in the value of copper has made mining of certain claims in the area economically viable.

The Project is proposed by the Rosemont Copper Company (Company), a subsidiary of Augusta Resource Corporation, which acquired the Rosemont Mine property in 2005. In July 2007, the Company submitted a Mine Plan of Operations (MPO), including a reclamation plan, to the Forest, requesting approval to construct and operate ore-mining and related facilities on and adjacent to National Forest System (NFS) land in Pima County, Arizona.

There are 132 patented lode claims, 850 unpatented lode claims, and 14 parcels of fee land in the Project area. Lode deposits that would be mined as part of the Project are, for the most part, on Company (private) property. Most unpatented claims were staked on Federal land managed by the Forest Service; however, a few of these claims in the northwest portion of the property are on Federal land managed by the BLM.

Proposed Action

The EIS will disclose the potential environmental and social impacts of (1) Approval by the Forest Service of an MPO and reclamation plan that addresses construction and operation of an open-pit mine and related facilities on claims held by the Company, and (2) amendment of the Coronado National Forest Land and Resource Management Plan (Forest Plan), if necessary, to allow specific mining activities to be undertaken on NFS land. Connected actions related to the MPO (e.g., construction of roads, utilities) will also be evaluated in the EIS, regardless of whether they are proposed to be undertaken on NFS land. Impacts of reasonably foreseeable actions in the Project area will be considered in combination with the impacts of the Project to estimate the potential cumulative impacts of Project implementation.

The Project would be undertaken on a mosaic of privately owned and Federally managed land. Extraction of ore from an approximately 2,900-foot-deep open-pit mine would be conducted primarily on private land. Processing, waste management, and other support facilities are proposed to be located on the Forest, and project infrastructure, such as utilities, could be located on BLM and state land. Access to mining claims would originate on State Highway 83 east of the property. A new access road is proposed.

Project-related activities to be addressed in the EIS include, but are not be limited to, the following:

□ Construction, operation and reclamation of an open-pit copper, silver and molybdenum mine primarily on private land.

□ Construction, operation, and reclamation of an ore-processing plant, tailings, waste rock and leach facilities on NFS land adjacent to the mine.

□ Construction and operation of infrastructure, such as utilities and their corridors, on non-NFS land.

□ Construction of a new access road, leach field, retention structures, wells, ore transportation systems, and test reclamation plots.

□ Use of existing roads, new road construction, and maintenance of both.

□ Labor requirements for construction, operation, processing, and reclamation.

□ Implementation of mitigation to avoid or minimize impacts;

□ Closure, reclamation and maintenance of the mine and related facilities.

□ Resource monitoring during construction, operation, and reclamation.

The Forest Service will serve as the lead agency in the preparation of the EIS, in accordance with the Council on Environmental Quality Regulations (CEQ) at 40 CFR 1501.6, and will be responsible for compliance with the NEPA, CEQ regulations, Forest Service NEPA directives, and various resource-protection laws and regulations. Other agencies, such as the BLM, State of Arizona, and Pima County, may be invited to participate in the NEPA review as cooperating agencies, depending on their jurisdiction and/or expertise, and in accordance with CEQ NEPA regulations.

Purpose of and Need for Action

The purpose of the proposed Forest Service action is to grant permission to the Company to use NFS land for certain activities related to operation of the Rosemont Mine. The agency's need for action is based on statutes and policy that govern mining on NFS land.

Most NFS land is subject to the location of certain minerals under the Mining Law of 1872, as amended (30 U.S.C. 21-54, et seq.), and the directives in Forest Service Manual 2800. Prospecting, locating, and developing the mineral resources on NFS land are also subject to other rules and regulations. These include, but are not limited to, the following:

1. The 1897 Organic Administration Act (30 Stat. 11, as amended; 16 U.S.C. 473-475, 477-482, 551) grants the Secretary of Agriculture the authority to regulate the occupancy and use of NFS lands. It provides the public with the continuing right to conduct mining activities under general mining laws and in compliance with rules and regulations applicable to NFS lands. It also recognizes the rights of miners and prospectors to access NFS lands for prospecting, locating and developing mineral resources.

2. The 1960 Multiple-Use Sustained-Yield Act (74 Stat. 215; 16 U.S.C. 528-531) requires that NFS lands be administered in a manner that includes consideration of the relative values of various resources as part of management decisions and specifically provides that nothing in the Act be construed to affect the use or administration of the mineral resources on NFS lands.

3. The 1970 Mining and Minerals Policy Act (84 Stat. 1876; 30 U.S.C. 21a) established the Federal Government's policy for mineral development, “* * * to foster and encourage private enterprise in the development of economically sound and stable industries and in the orderly development of domestic resources to help assure satisfaction of industrial, security, and environmental needs”.

4. Regulations at Title.36, Code of Federal Regulations, part 228A, set forth rules and procedures governing the use of NFS lands in conjunction with operations authorized by general mining laws. Part 228.3(a) specifically addresses the development of mineral resources.

Preliminary Identification of Issues

Based on a preliminary review of the proposed action by Forest resource specialists, the following potential issues were identified:

□ Effects on the economy, public services, quality of life and other community resources in Pima County, Tucson, and nearby communities;

□ Effects on the quality and availability of surface water groundwater resources;

□ Effects on vegetation and wildlife, including those having special-status designations by the U.S. Fish and Wildlife Service, Arizona Game and Fish Department, Forest Service, Region 3 Regional Forester; and Forest Plan;

□ Effects on soils and geology;

□ Effects on aesthetic resources, including Forest visual quality objectives and State Highway 83, a state-designated scenic highway;

□ Effects on archaeological, historic, and cultural resources, including Native American interests and values;

□ Effects on Forest recreational use and compatibility with other land uses;

□ Effects of increased traffic on local roads and transportation systems;

□ Effects of mining and processing and vehicle traffic on;

□ Effects of noise on nearby residents, Forest users, and sensitive wildlife.

The preceding list is subject to change, based on future comments received from the public and resource agencies.

Responsible Official

Ms. Jeanine Derby, Forest Supervisor, Coronado National Forest, will be the Responsible Official who prepares the Record of Decision (ROD) at the conclusion of this NEPA review. The Forest address is provided above.

Nature of NEPA Decision To Be Made

Based on the results of the NEPA analysis, the Forest Supervisor's ROD regarding the MPO and reclamation plan will recommend implementation of one of the following: (1) The proposed action and mitigation necessary to minimize or avoid adverse impacts; (2) an alternative to the proposed action and mitigation necessary to minimize or avoid adverse impacts, or (3) the no-action alternative. The ROD will also document the consistency of the proposed action with the Coronado National Forest Land and Resource Management Plan (Forest Plan) (1986, as amended) and approval of Proposed amendments to it.

National Forest Management Act Consistency

The Forest must ensure that the Project is consistent with the Forest Plan, which was prepared in accordance with direction in the National Forest Management Act (16 U.S.C. 1600). The Forest Plan provides land management guidance and direction to Forest managers in terms of Forest-wide and management-area-specific goals, objectives, standards, and guidelines, based on desired future conditions on the Forest. If implementation of the Project will require amendments to the Forest Plan, all proposed amendments will be evaluated for environmental effects in conjunction with the NEPA review of the Project.

Request for Comments on the NEPA Review

The Forest Service encourages citizens to express issues, concerns, and suggestions they may have about this proposed action. Comments should be directly related to issues associated with the proposed action, rather than general advocacy of or opposition to the project, to best assist us in the NEPA analysis. Although comments are welcome at any time during the NEPA review, they will be most useful to us if they are received within 30 days following the publication of this notice. If you have questions about this notice or the scoping process, please contact Ms. Beverley Everson, Geologist, Coronado National Forest, at telephone (520) 388-8352 prior to submitting your comments.

Written comments may be mailed or hand-delivered to Ms. Everson at Coronado National Forest, 300 W. Congress St., Tucson, Arizona 85701; sent by facsimile to (520) 388-8305; or submitted by email to comments-southwestern-coronado@fs.fed.us. Envelopes and the subject line of email and facsimiles should include the words “Rosemont Copper Project EIS.” Oral and written comments may also be submitted at the open houses listed above or in person at the Forest address above.

Please be advised that comments and personal information associated with them, such as names and addresses, will become part of the administrative record for this NEPA review. As such, they may be made available to a third-party in response to a Freedom of Information Act (FOIA) request. You may prefer to submit comments without including personal information. Or, you may request of the Forest Service that your personal information be exempted from release under the FOIA. You will subsequently be informed by the Forest Service whether or not your request qualifies for an exemption. If it does not, you will be afforded the opportunity to resubmit your comments without personal information or to withhold them altogether.

Early Notice of the Importance of Public Participation in the NEPA Process

Following the 30-day scoping period announced in this notice, the Forest Service will prepare a draft environmental impact statement (DEIS). Upon completion, the DEIS will be made available for a 45-day public review and comment period that will begin on the date that the EPA publishes an NOA of the DEIS in the Federal Register. The Forest Service believes that, at this early stage, it is important to provide the public with notice about several court rulings related to public participation in the NEPA environmental review process.

First, reviewers of a DEIS must structure their participation in the NEPA review so that it is meaningful and alerts the agency to the reviewer's position and contentions [Vermont Yankee Nuclear Power Com. v. NRDC, 435 U.S. 519, 553 (1978)]. Also, environmental objections that could be raised at the DEIS stage but that are not raised until after completion of the final environmental impact statement (FEIS) may be waived or dismissed by the courts [City of Angoon v. Hodel, 803 F.2d 1016, 1022 (9th Cir. 1986) and Wisconsin Heritages. Inc. v. Harris, 490 F. Supp. 1334, 1338 (E.D. Wise. 1980)]. Because of these court rulings, it is very important that those parties who are interested in this proposed action participate before the close of a public comment period so that substantive comments and objections are available to the Forest Service in a timely manner that will allow them to be meaningfully considered and subsequently addressed in the FEIS.

To assist the Forest Service in identifying and considering issues and concerns about the proposed action, comments on a DEIS should be as specific as possible. It is also helpful if comments refer to specific line numbers, pages, and/or chapters of the DEIS. Comments may address the adequacy of the DEIS or the merits of the alternatives formulated an discussed in it. For comments of this nature, reviewers may choose to refer to CEQ regulations at 40 CFR 1503.3.

Comments received, including the names and addresses of those who comment, will be considered part of the public record of this NEPA review and will be available for public inspection unless exempted from such.

(Authority: 40 CFR parts 1501.7 and 1508.22; Forest Service Handbook 1909.15, section 21).

Authorization: National Environmental Policy Act of 1969 as amended (42 U.S.C. 4321-4346); Council on Environmental Quality Regulations (40 CFR parts 1500-1508); U.S. Department of Agriculture NEPA Policies and Procedures (7 CFR part 1 b).

February 28, 2008.
Jeanine A. Derby,
Forest Supervisor.

[FR Doc. E8-4780 Filed 3-12-08; 8:45 am]

BILLING CODE 3410-11-M